DEPARTMENT OF HEALTH AND HUMAN SERVICES

Meeting Notice for the President's Advisory Council on Faith-Based and Neighborhood Partnerships

In accordance with section 10(a)(2) of the Federal Advisory Committee Act (Pub. L. 92-463), the President's Advisory Council on Faith-based and Neighborhood Partnerships announces the following meeting:

Name: President's Advisory Council on Faith-based and Neighborhood Partnerships Council Meeting.

Time and Date: Wednesday, April 10th, 2013 9:30 a.m.-11:30 a.m. (EDT).

Place: Meeting will be held at a location to be determined in the White House complex, 1600 Pennsylvania Ave NW., Washington, DC. Space is extremely limited. Photo ID and RSVP are required to attend the event. Please RSVP to Ben O'Dell at partnerships@hhs.gov.

The meeting will be available to the public through a conference call line. The call-in line is: 1-866-823-5144; Passcode: 1375705.

Status: Open to the public, limited only by space available. Conference call limited only by lines available.

Purpose: The Council brings together leaders and experts in fields related to the work of faith-based and neighborhood organizations in order to: Identify best practices and successful modes of delivering social services; evaluate the need for improvements in the implementation and coordination of public policies relating to faith-based and other neighborhood organizations; and make recommendations for changes in policies, programs, and practices.

Contact Person for Additional Information: Please contact Ben O'Dell for any additional information about the President's Advisory Council meeting at partnerships@hhs.gov.

Agenda: Please visit http://www.whitehouse.gov/partnerships for further updates on the Agenda for the meeting.

Public Comment: There will be an opportunity for public comment at the end of the meeting. Comments and questions can be sent in advance to partnerships@hhs.gov.

Dated: March 19, 2013.
Ben O'Dell,
Designated Federal Officer and Associate Director, HHS Center for Faith-based and Neighborhood Partnerships.

[FR Doc. 2013-06666 Filed 3-21-13; 8:45 am]

BILLING CODE 4154-07-P